OVERSEAS PRIVATE INVESTMENT CORPORATION

Sunshine Act; Board of Directors Meeting

June 23, 2011.

TIME AND DATE: Thursday, June 23, 2011, 10 a.m. (Open Portion) 10:15 a.m. (Closed Portion).

PLACE: Offices of the Corporation, Twelfth Floor Board Room, 1100 New York Avenue, NW., Washington, DC.

STATUS: Meeting OPEN to the Public from 10 a.m. to 10:15 a.m. Closed portion will commence at 10:15 a.m. (approx.).

MATTERS TO BE CONSIDERED: 1. President's Report.

2. Approval of March 10, 2011 Minutes (Open Session).

3. Confirmation: Jay L. Koh as Vice President, Investment Funds.

FURTHER MATTERS TO BE CONSIDERED: (Closed to the Public 10:15 a.m.).

1. Reports.

2. Finance Project—Egypt and Jordan.

3. Finance Project—Global.

4. Finance Project—Global.

5. Finance Project—India and Southeast Asia.

6. Finance Project—India, Philippines, Sri Lanka and Southeast Asia.

7. Finance Project—Vietnam, Cambodia and Laos.

8. Finance Project—Israel.

9. Finance Project—Sub-Saharan Africa and North Africa.

10. Finance Project—Zambia, Malawi, Mozambique, Tanzania and Uganda.

11. Approval of March 10, 2011 Minutes (Closed Session).

12. Pending Major Projects.

Written summaries of the projects to be presented will be posted on OPIC's Web site on or about June 6, 2011.

CONTACT PERSON FOR INFORMATION: Information on the meeting may be obtained from Connie M. Downs at (202) 336-8438.

Dated: June 9, 2011.
Connie M. Downs,
Corporate Secretary, Overseas Private Investment Corporation.

[FR Doc. 2011-14675 Filed 6-9-11; 4:15 pm]

BILLING CODE 3210-01-P